DEPARTMENT OF DEFENSE

Department of the Air Force

Air University Board of Visitors' Air Force Institute of Technology

AGENCY: Department of the Air Force, Air University, Department of Defense.

ACTION: Notice withdrawal.

SUMMARY: The Department of Defense is withdrawing the previously announced Federal Register notice concerning a meeting of the Air Force Institution of Technology Subcommittee on October 17 thru 18, 2016, as announced in the Federal Register (Volume 81, Number 190) on September 30, 2016. Since the Department of the Air Force was unable to provide sufficient notification of the withdrawal action, the Advisory Committee Management Officer for the Department of Defense waives the 15-calendar day notification requirement pursuant to 41 CFR 102-3.150(b).

DATES: This withdrawal is effective October 5, 2016.

SUPPLEMENTARY INFORMATION: The Department of the Air Force is withdrawing the meeting notice of the Air University Board of Visitors' Air Force Institute of Technology that published Friday, 30 September, 2016 since the Department of the Air Force was unable to provide sufficient notification of the withdrawal action that the meeting is not required to be announced under FACA provisions.

Henry Williams,
Acting Air Force Federal Register Liaison Officer.

[FR Doc. 2016-24532 Filed 10-11-16; 8:45 am]

BILLING CODE 5001-10-P